FEDERAL COMMUNICATIONS COMMISSION

47 CFR Part 73

[DA 07-4945; MB Docket No. 02-352; RM-10602, RM-10776, RM-10777]

Radio Broadcasting Services; Clyde and Glenville, NC, Tazewell, Tennessee and Weaverville, NC

AGENCY: Federal Communications Commission.

ACTION: Final rule; dismissal.

SUMMARY: This document approves a Joint Request for Approval of Settlement Agreement filed by Liberty Productions, a Limited Partnership, Saga Communications of North Carolina, LLC, Ashville Radio Partners, LLC, and Willsyr Communications, Limited Partnership, requesting withdrawal of a Petition for Reconsideration and all pleadings filed in connection MB Docket No. 02-352. With this action, the proceeding is terminated.

FOR FURTHER INFORMATION CONTACT: Robert Hayne, Media Bureau (202) 418-2177.

SUPPLEMENTARY INFORMATION: This is a synopsis of the letter from Peter H. Doyle, Chief, Audio Division, Media Bureau to Liberty Productions, a Limited Partnership, et al., released December 11, 2007, (DA 07-4945). The full text of this letter is available for inspection and copying during normal business hours in the FCC Reference Information Center at Portals l1, CY-A257, 445 12th Street, SW., Washington, DC 20554. The complete text of this decision may also be purchased from the Commission's copy contractor, Best Copying and Printing, Inc., 445 12th Street, SW., Room CY-B402, Washington, DC 20554, telephone 1-800-378-3160 or http://www.BCPIWEB.com. The Commission, is, therefore, not required to submit a copy of this Letter pursuant to the Government Accountability Office, pursuant to the Congressional Review Act, see 5 U.S.C. 801 (a)(1)(A), because the Petition for Reconsideration was dismissed.

Federal Communications Commission.
John A. Karousos,
Assistant Chief, Audio Division, Media Bureau.

[FR Doc. E7-24623 Filed 12-20-07; 8:45 am]

BILLING CODE 6712-01-P